DEPARTMENT OF THE INTERIOR

Fish and Wildlife Service

[FWS-R3-ES-2013-N094; FXES11130300000F3-234-FF03E00000]

Endangered and Threatened Wildlife and Plants; Permit Applications

AGENCY: Fish and Wildlife Service, Interior.

ACTION: Notice of availability of permit applications; request for comments.

SUMMARY: We, the U.S. Fish and Wildlife Service (USFWS), invite the public to comment on the following applications to conduct certain activities with endangered species. With some exceptions, the Endangered Species Act (Act) prohibits activities with endangered and threatened species unless a Federal permit allows such activity. The Act requires that we invite public comment before issuing these permits.

DATES: We must receive any written comments on or before May 28, 2013.

ADDRESSES: Send written comments by U.S. mail to the Regional Director, Attn: Lisa Mandell, U.S. Fish and Wildlife Service, Ecological Services, 5600 American Blvd. West, Suite 990, Bloomington, MN 55437-1458; or by electronic mail to permitsR3ES@fws.gov.

FOR FURTHER INFORMATION CONTACT: Lisa Mandell, (612) 713-5343.

SUPPLEMENTARY INFORMATION:

Background

We invite public comment on the following permit applications for certain activities with endangered species authorized by section 10(a)(1)(A) of the Act (16 U.S.C. 1531 et seq.) and our regulations governing the taking of endangered species in the Code of Federal Regulations (CFR) at 50 CFR part 17. Submit your written data, comments, or request for a copy of the complete application to the address shown in ADDRESSES.

Permit Applications

Permit Application Number: TE03450B.

Applicant: Erin L. Basinger, Cloverdale, IN.

The applicant requests a permit to take (capture and release) Indiana bats (Myotis sodalis), Gray bats (Myotis grisescens), Virginia big-eared bats (Corynorhinus townsendii virginianus) and Ozark big-eared bats (Corynorhinus townsendii ingens) throughout the States of Alabama, Arkansas, Connecticut, Delaware, Florida, Georgia, Illinois, Indiana, Iowa, Kansas, Kentucky, Maryland, Massachusetts, Michigan, Mississippi, Missouri, New Hampshire, New Jersey, New York, North Carolina, Ohio, Oklahoma, Pennsylvania, Rhode Island, South Carolina, Tennessee, Vermont, Virginia, West Virginia, and Wisconsin. Proposed activities are for the recovery and enhancement of survival of the species in the wild.

Permit Application Number: TE06845A.

Applicant: Bernardin, Lochmueller, and Associates, Inc., Evansville, IN.

The applicant requests an amendment to their permit to take (capture and release) Indiana bats and gray bats. The requested amendment is to increase the geographic area where the permittee may work to include Kentucky and Georgia. Proposed activities are for the recovery and enhancement of survival of the species in the wild.

Permit Application Number: TE38860A.

Applicant: Jason M. Garvon, Lake Superior State University, Sault Ste. Marie, MI.

The applicant requests a permit renewal to take (harass) Piping Plover (Charadrius melodus) in the Upper Peninsula of Michigan. Activities are proposed for the conservation and recovery of the species in the wild.

Permit Application Number: TE11035A.

Applicant: Robert J. Vande Kopple, University of Michigan, Pellston, MI.

The applicant requests a permit renewal to take (capture and release) the Hungerford's crawling water beetle (Brychius hungerfordi) throughout the species' range in Michigan and Wisconsin. Proposed activities are for the recovery and enhancement of propagation and survival of the species in the wild.

Permit Application Number: TE03452B.

Applicant: Michigan Nature Association, Williamston, MI.

The applicant requests a permit to take (harass, harm, kill) Mitchell's satyr butterflies (Neonympha mitchellii mitchellii) at the Association's Butternut Creek Nature Sanctuary, Berrien County, Michigan. Proposed activities are for the enhancement of survival of the species in the wild through habitat management and population monitoring.

Permit Application Number: TE48835A.

Applicant: Applied Science and Technology, Inc., Brighton, MI.

The applicant requests a permit amendment to take (capture and release) Snuffbox mussels (Epioblasma triquetra) and to increase the geographic scope of the permit to include waters throughout Michigan and Ohio. Proposed activities are for the recovery and enhancement of survival of the species in the wild.

Permit Application Number: TE03494B.

Applicant: GAI Consultants, Inc., Erlanger, KY.

The applicant requests a permit to take (capture and release) Indiana bats, gray bats, Virginia big-eared bats, and Ozark big-eared bats throughout the States of Alabama, Arkansas, Connecticut, Delaware, Florida, Georgia, Illinois, Indiana, Iowa, Kansas, Kentucky, Maryland, Massachusetts, Michigan, Mississippi, Missouri, New Hampshire, New Jersey, New York, North Carolina, Ohio, Oklahoma, Pennsylvania, Rhode Island, South Carolina, Tennessee, Vermont, Virginia, West Virginia, and Wisconsin. Proposed activities are for the recovery and enhancement of survival of the species in the wild.

Permit Application Number: TE03495B.

Applicant: Kristina R. Hammond, Terre Haute, IN.

The applicant requests a permit to take (capture and release) Indiana bats throughout the States of the States of Alabama, Arkansas, Georgia, Illinois, Indiana, Iowa, Kansas, Kentucky, Maine, Maryland, Massachusetts, Michigan, Mississippi, Missouri, New Hampshire, New York, North Carolina, Ohio, Pennsylvania, Rhode Island, South Carolina, Tennessee, Vermont, Virginia, and West Virginia. Proposed activities are for the recovery and enhancement of survival of the species in the wild.

Permit Application Number: TE235639.

Applicant: Davey Resource Group, Kent, OH.

The applicant requests a permit amendment to take (capture and release) Indiana bats. The requested amendment would increase the geographic area in which the permittee may work to include the State of Missouri. Proposed activities are for the recovery and enhancement of survival of the species in the wild.

Permit Application Number: TE03499B.

Applicant: Ecological Survey and Design, LLC, Temperance, MI.

The applicant requests a permit to take (capture and release) Snuffbox mussels within the State of Ohio. Proposed activities are for the recovery and enhancement of survival of the species in the wild.

Permit Application Number: TE03501B.

Applicant: Mississippi Entomological Museum, Mississippi State University, Mississippi State, MS.

The applicant requests a permit to take (collect) Mitchell's satyr butterflies in the States of Michigan and Indiana. Proposed activities are to conduct scientific research in the interest of species recovery.

Permit Application Number: TE03502B.

Applicant: California Ridge Wind Energy LLC, Chicago, IL.

The applicant requests a permit to take (harm, harass, kill) Indiana bats in Champaign and Vermillion Counties, Illinois. Proposed activities includes a two year scientific research study of acoustic deterrents, wind turbine operational experiments, and fatality surveys at the California Ridge Wind Energy Project. Proposed activities are aimed at conservation of the species through reduction of impacts at wind energy facilities.

Public Comments

We seek public review and comments on these permit applications. Please refer to the permit number when you submit comments. Comments and materials we receive are available for public inspection, by appointment, during normal business hours at the address shown in the ADDRESSES section. Before including your address, phone number, email address, or other personal identifying information in your comment, you should be aware that your entire comment—including your personal identifying information—may be made publicly available at any time. While you can ask us in your comment to withhold your personal identifying information from public review, we cannot guarantee that we will be able to do so.

Dated: April 22, 2013.
Lynn M. Lewis,
Assistant Regional Director, Ecological Services, Midwest Region.

[FR Doc. 2013-09880 Filed 4-25-13; 8:45 am ]

BILLING CODE 4310-55-P